DEPARTMENT OF THE INTERIOR

National Park Service

[N6408; NPS-WASO-NAGPRA-NPS0040802; PPWOCRADN0-PCU00RP14.R50000]

Notice of Inventory Completion: Tennessee Department of Environment and Conservation, Division of Archaeology, Nashville, TN

AGENCY: National Park Service, Interior.

ACTION: Notice.

SUMMARY: In accordance with the Native American Graves Protection and Repatriation Act (NAGPRA), the Tennessee Department of Environment and Conservation, Division of Archaeology (TDEC-DOA) has completed an inventory of human remains and associated funerary objects from Cumberland, Dekalb, Fentress, Jackson, Morgan, Overton, Pickett, Putnam, Smith, White, and Wilson Counties, TN, and has determined that there is a cultural affiliation between the human remains and associated funerary objects and Indian Tribes or Native Hawaiian organizations in this notice.

DATES: Repatriation of the human remains and associated funerary objects in this notice may occur on or after September 15, 2025.

ADDRESSES: Send written requests for repatriation of the human remains and associated funerary objects in this notice to Phillip R. Hodge, Tennessee Department of Environment and Conservation, Division of Archaeology (TDEC-DOA), 1216 Foster Avenue, Cole Building #3, Nashville, TN 37243, email Phil.Hodge@tn.gov.

SUPPLEMENTARY INFORMATION: This notice is published as part of the National Park Service's administrative responsibilities under NAGPRA. The determinations in this notice are the sole responsibility of the TDEC-DOA, and additional information on the determinations in this notice, including the results of consultation, can be found in its inventory or related records. The National Park Service is not responsible for the determinations in this notice.

Abstract of Information Available

Human remains representing, at least, 80 individuals have been identified. The 16 associated funerary objects are 10 artifacts, and six lots of artifacts described below.

Site 40CU8, Cumberland County, TN

Human remains representing, at least, one individual. No information is available regarding the circumstances surrounding the acquisition of these remains. There is no known exposure to hazardous substances or treatments.

Unknown Site, Cumberland County, TN

Human remains representing, at least, one individual. These remains were collected in the 1970s and donated to the University of Tennessee Forensic Center before being transferred to TDEC-DOA in 2015. No information exists as to the circumstances surrounding their collection. There is no known exposure to hazardous substances or treatments.

Site 40DK57, DeKalb County, TN

Human remains representing, at least, one individual. No information is available regarding the circumstances surrounding the acquisition of these remains. There is no known exposure to hazardous substances or treatments.

Unknown Sites, Fentress County, TN

Human remains representing, at least, six individuals. Remains of at least two individuals were donated to TDEC-DOA by the Knox County Forensic Center. Remains of at least three individuals were excavated by PE Cox in 1928 from a rockshelter in Fentress County, Tennessee, later loaned by the Tennessee State Museum to the State Library and Archives, and later transferred to the Division of Archaeology in 1995. Remains of at least one individual were transferred from the Tennessee State Museum to TDEC-DOA in 1995, however no information exists as to the circumstances surrounding original collection. There is no known exposure to hazardous substances or treatments.

Site 40JK12, Jackson County, TN

Human remains representing, at least, 10 individuals were collected from burial features. The six associated funerary objects are six soil samples. Stone box burials from site 40JK12 were salvaged during a project led by TDEC-DOA staff in 1972. There is no known exposure to hazardous substances or treatments.

Site 40JK25, Jackson County, TN

Human remains representing, at least, 22 individuals. The six associated funerary objects are two eastern box turtle tibae and four lots of artifacts that include fauna and lithics. Excavations at site 40JK25 were conducted by the Tennessee Department of Conservation in 1976 prior to reconstruction of State Route 53. There is no known exposure to hazardous substances or treatments.

Unknown Site, Morgan County, TN

Human remains representing, at least, nine individuals. The one associated funerary object is one lot of artifacts that includes faunal and lithics. These materials were donated to TDEC-DOA by the Knox County Medical Examiner in 2020. No information exists as to the circumstances surrounding their collection. There is no known exposure to hazardous substances or treatments.

Site 40OV166, Overton County, TN

Human remains representing, at least, two individuals. These remains were looted from a rockshelter and seized by the Tennessee Methamphetamine Taskforce and donated to TDEC-DOA in 2011. There is no known exposure to hazardous substances or treatments.

Unknown Sites, Overton County, TN

Human remains representing, at least, three individuals. The one associated funerary object is one lot of artifacts that includes fauna and lithics. Remains of at least two individuals and one lot of AFOs were donated to the Tennessee State Museum and transferred to the Division of Archaeology in 2021. Remains of at least one individual were donated to TDEC-DOA by a private individual in 2025. There is no known exposure to hazardous substances or treatments.

Unknown Site, Pickett County, TN

Human remains representing, at least, three individuals. The two associated funerary objects are two ceramic vessel fragments. Remains of one individual and two ceramic vessel fragments were donated to the Tennessee State Museum and transferred to TDEC-DOA in 2017. Remains of at least, two individuals, were donated to TDEC-DOA by the Pickett County Sheriff. No information exists as to the circumstances surrounding their collection. There is no known exposure to hazardous substances or treatments.

Unknown Site, Putnam County, TN

Human remains representing, at least, one individual. These remains were donated to TDEC-DOA in 1989. No record exists as to the donor, or original circumstances of collection. There is no known exposure to hazardous substances or treatments.

Site 40SM4, Smith County, TN

Human remains representing, at least, one individual. These ancestral remains were collected by TDEC-DOA staff in 1972 during a site survey. There is no known exposure to hazardous substances or treatments.

Unknown Site, Smith County, TN

Human remains representing, at least, four individuals. No record exists as to the donor, original circumstances, or date of acquisition for these remains. There is no known exposure to hazardous substances or treatments.

Site 40WH99, White County, TN

Human remains representing, at least, three individuals. Remains of at least one individual were collected by TDEC-DOA staff in 1987 from looter pits. No information is available regarding the acquisition of at least two individuals. There is no known exposure to hazardous substances or treatments.

Unknown Site, White County, TN

Human remains representing, at least, three individuals. Remains of at least one adult individual were collected by a private individual and donated to TDEC-DOA in 2009. Remains of at least two individuals were donated to TDEC-DOA by the White County Sheriff in 2010. There is no known exposure to hazardous substances or treatments.

Site 40WI1, Wilson County, TN

Human remains representing, at least, one individual. TDEC-DOA staff conducted excavations at 40WI1 in 1974 that resulted in the recovery of this single ancestor from within the footprint of a wall trench structure. There is no known exposure to hazardous substances or treatments.

Unknown Site, Wilson County, TN

Human remains representing, at least, nine individuals. Remains of at least one individual were recovered in Wilson County and donated to TDEC-DOA. Remains of at least eight individuals were discovered by law enforcement in Wilson County and transferred to TDEC-DOA in 2007. There is no known exposure to hazardous substances or treatments.

Cultural Affiliation

Based on the information available and the results of consultation, cultural affiliation is reasonably identified by the geographical location or acquisition history of the human remains and associated funerary objects described in this notice.

Determinations

The TDEC-DOA has determined that:

• The human remains described in this notice represent the physical remains of 80 individuals of Native American ancestry.

• The 16 objects described in this notice are reasonably believed to have been placed intentionally with or near individual human remains at the time of death or later as part of the death rite or ceremony.

• There is a connection between the human remains and associated funerary objects described in this notice and the Cherokee Nation; Eastern Band of Cherokee Indians; The Muscogee (Creek) Nation; and the United Keetoowah Band of Cherokee Indians in Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after September 15, 2025. If competing requests for repatriation are received, the TDEC-DOA must determine the most appropriate requestor prior to repatriation. Requests for joint repatriation of the human remains and associated funerary objects are considered a single request and not competing requests. The TDEC-DOA is responsible for sending a copy of this notice to the Indian Tribes and Native Hawaiian organizations identified in this notice.

Authority: Native American Graves Protection and Repatriation Act, 25 U.S.C. 3003, and the implementing regulations, 43 CFR 10.10.

Dated: July 31, 2025.
Melanie O'Brien,
Manager, National NAGPRA Program.

[FR Doc. 2025-15398 Filed 8-13-25; 8:45 am]

BILLING CODE 4312-52-P